DEPARTMENT OF TRANSPORTATION

Federal Aviation Administration

Associate Administrator for Commercial Space Transportation; Notice of Intent To Prepare an Environmental Impact Statement (EIS) and Conduct Public Scoping Meetings

AGENCY: The Federal Aviation Administration (FAA), Associate Administrator for Commercial Space Transportation (AST) is the lead Federal agency. The Bureau of Land Management (BLM) is a cooperating agency. The FAA will ask the U.S. Department of the Army to participate as a cooperating agency.

ACTION: Notice of Intent.

SUMMARY: This Notice provides information to Federal, State, and local agencies, affected Native American tribes, and other interested persons regarding the FAA's intent to prepare an environmental impact statement (EIS) for the New Mexico Economic Development Department's (NMEDD's) proposal to develop and operate a commercial launch site near Upham, New Mexico. The FAA will prepare the EIS in accordance with the National Environmental Policy Act (NEPA) of 1969 (42 United States Code (U.S.C.) 4321 et seq.), the Council on Environmental Quality Regulations for Implementing the Procedural Provisions of NEPA (40 Code of Federal Regulations (CFR) parts 1500-1508), and FAA Order 1050.1E, Environmental Impacts: Policies and Procedures, as part of its licensing process for the proposed launch site. The BLM will participate in this NEPA process as a cooperating agency; the FAA will ask the U.S. Army White Sands Missile Range to participate as a cooperating agency.

Under the proposed action, the FAA would issue a launch site operator license to the NMEDD to operate a launch facility at the proposed site, termed the Southwest Regional Spaceport. The launch site operator license would authorize the NMEDD to operate a launch facility to support launches of horizontally and vertically launched, suborbital rockets.¹ The vehicles proposed to be launched from the Southwest Regional Spaceport may carry space flight participants,² scientific experiments or other payloads.³ The issuance of a launch site operator license does not permit the NMEDD to conduct launches, only to offer the facility and infrastructure to launch operators. All individual launch operators would be subject to separate FAA licensing or permitting.

¹ A suborbital rocket is a vehicle, rocket-propelled in whole or in part, intended for flight on a suborbital trajectory, and the thrust of which is greater than its lift for the majority of the rocket-powered portion of its ascent. (49 U.S.C 70102(19)) Suborbital trajectory is the intentional flight path of a launch vehicle, reentry vehicle, or any portion thereof whose vacuum instantaneous impact point (IIP) does not leave the surface of the Earth.

² ‘Space flight participant' means an individual who is not crew, carried within a launch vehicle or reentry vehicle.

³ Payload is the item that an aircraft or rocket carries over and above what is necessary for the operation of the vehicle in flight.

A license to operate a launch site authorizes a licensee to offer its launch site to a launch operator for each launch point for the type and weight class of launch vehicle identified in the license application and upon which the licensing determination is based. Issuance of a license to operate a launch site does not relieve a licensee of its obligation to comply with any other laws or regulations; nor does it confer any proprietary, property, or exclusive right in the use of airspace or outer space. (14 CFR 420.41) A launch site operator license remains in effect for five years from the date of issuance unless surrendered, suspended, or revoked before the expiration of the term and is renewable upon application by the licensee. (14 CFR 420.43)

SUPPLEMENTARY INFORMATION:

Background

The FAA is preparing an EIS to analyze the environmental impacts of the NMEDD's proposed operation of a launch facility near Upham, New Mexico. The proposed site is located approximately 45 miles north of Las Cruces, New Mexico. The EIS will consider the environmental impacts of the construction of facilities, ground activities (e.g., component testing, transportation and storage of propellants and explosives, etc.), pre-flight vehicle and payload preparation activities, launch, and landing/recovery operations.

The successful completion of the environmental review process does not guarantee that the FAA would issue a launch site operator license to the NMEDD. The project also must meet all FAA safety, risk, and indemnification requirements. A license to operate a launch site does not guarantee that a launch license or experimental permit would be granted for any particular launch proposed for the site.

Proposed Action

The proposed action is for the FAA to issue a launch site operator license to the NMEDD that would allow the NMEDD to operate the Southwest Regional Spaceport for both horizontal and vertical suborbital launches. Nominally, the rockets would return and land within the Southwest Regional Spaceport or adjacent areas. Contingency landings may occur on lands administered by BLM.

As part of the proposed action, the NMEDD proposes to construct a vertical launch area, airfield, spectator area, landing and recovery area, and access road. The vertical launch area would include: Storage areas for explosives and propellants, three launch pads, two vehicle assembly areas, launch control building, and office areas. The airfield would include prevailing and cross wind runways, and a horizontal launch hangar. The spectator area would include parking and viewing areas. These facilities would be constructed on State property. Development of access and supporting utility infrastructure for the Southwest Regional Spaceport may occur on lands administered by the BLM. The impacts of all construction activities will be analyzed in this EIS.

In order to address the range of launch vehicles that could be launched from the proposed facility, the EIS will consider three types of horizontally launched concept vehicles and three types of vertically launched concept vehicles. The horizontal concept vehicles include:

• Concept H1 vehicles—These vehicles use jet-powered take off with subsequent rocket engine ignition and powered horizontal landing.

• Concept H2 vehicles—These vehicles use rocket-powered take off and flight and unpowered horizontal landing.

• Concept H3 vehicles—These vehicles are carried aloft via assist aircraft with subsequent rocket engine ignition and unpowered horizontal landing.

The vertical concept vehicles include:

• Concept V1 vehicles—These vehicles consist of a single-stage rocket in which the rocket stage and payload or crew/passenger modules return separately to Earth by parachute.

• Concept V2 vehicles—These vehicles consist of a single-stage rocket in which the rocket stage returns to Earth by parachute and the crew/passenger module returns with a powered or unpowered horizontal landing.

• Concept V3 vehicles—These vehicles consist of a single-stage rocket with rocket-powered vertical landing.

Alternatives

Alternatives under consideration include issuance of a launch site operator license to the NMEDD for the operation of a launch site to support

• Horizontal launch concept vehicles only,

• Vertical launch concept vehicles only, or

• A subset of the concept vehicles.

Based on comments received during the scoping period, the FAA may propose additional alternatives. The EIS will also analyze the no action alternative.

Scoping Meetings

Two public scoping meetings will be held to solicit input from the public on potential issues that may need to be evaluated in the EIS. The first scoping meeting will be held on February 15 at 6:30 p.m., at the Truth or Consequences City Council Chambers, 405 West 3rd St. in Truth or Consequences, New Mexico. The second scoping meeting will be held on February 16, at 6:30 p.m., at the Physical Sciences Laboratory Auditorium, New Mexico State University in Las Cruces, New Mexico.

DATES: The FAA invites interested agencies, organizations, Native American tribes, and members of the public to submit comments or suggestions to assist in identifying significant environmental issues and in determining the appropriate scope of the EIS. The public scoping period starts with the publication of this notice in the Federal Register. To ensure sufficient time to consider issues identified during the public scoping period, comments should be submitted to Ms. Stacey M. Zee by one of the methods listed below no later than March 3, 2006.

ADDRESSES: Comments, statements, or questions concerning scoping issues or the EIS process should be mailed to Ms. Stacey M. Zee, FAA Environmental Specialist, Southwest Regional Spaceport EIS c/o ICF Consulting, 9300 Lee Highway, Fairfax, VA 22031. Comments can also be sent by e-mail to SRSEIS@icfconsulting.com or by fax to (703) 934-3951.

Dated: January 13, 2006.
Herbert Bachner,
Manager, Space Systems Development Division.

[FR Doc. E6-757 Filed 1-23-06; 8:45 am]

BILLING CODE 4910-13-P